DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Proposed Project: Evaluation of the SOAR Initiative—NEW

SAMHSA will evaluate the implementation and outcomes of the Supplemental Security Income (SSI)/Social Security Disability Income (SSDI) Outreach Access and Recovery (SOAR) initiative. The SSI and SSDI programs provide cash assistance to individuals with qualifying disabilities. SOAR aims to increase access to these programs among people who are homeless and thereby improve their quality of life. The crux of the initiative is the provision of technical assistance (TA) to help states and local communities develop strategies to increase the quality of SSI/SSDI applications homeless individuals submit.

To evaluate SOAR's implementation and outputs, SAMHSA will collect data from the following sources:

• In-person interviews with state and local SOAR stakeholders;

• A social network survey of state and local SOAR stakeholders;

• Focus groups with participants of in-person SOAR trainings;

• Evaluative materials completed by participants of in-person SOAR trainings, including pre/post training evaluation forms and a customer satisfaction survey;

• Evaluative materials completed by users of web-based SOAR trainings, including pre/post training evaluation screens and an online customer satisfaction survey.

The first four data collections will be conducted in eight local communities in eight different states that will begin receiving federally-funded SOAR TA for the first time in 2010. For the fifth data collection, SAMHSA will collect data from pre- and post-training evaluation forms and a customer satisfaction survey nationwide for users of a newly developed Web-based SOAR training.

Respondents to the in-person interviews and social network survey will include an average of 15 state and local SOAR stakeholders in each of the eight local communities included in the study (for a total of 120 respondents). Stakeholders include state and local SOAR leaders, administrators and staff from Social Security Administration field offices and state Disability Determination Services offices, SOAR trainers, and administrators and staff from state mental health agencies, housing and other public assistance agencies, homeless service providers, and community-based agencies. Focus group respondents will include an average of 11 individuals who participated in an in-person SOAR training in each of the eight local communities included in the study (for a total of 88 respondents). The majority of respondents will be staff from community-based agencies. Respondents to the in-person training evaluative materials include an average of 15 individuals who participated in the first in-person training in each of the eight local communities included in the study (for a total of 120 respondents). Respondents to the web-based training evaluative materials will be the universe of users who ever log on to the web-based training and receive a user identification number, regardless of in which state or community users reside. SAMHSA anticipates that 2,706 users will access the web-based training in lieu of attending an in-person training. These users will complete all three components of the evaluative materials. In addition, SAMHSA anticipates that 2,050 users will access the web-based training to refresh or supplement what they learned in an in-person training. These users will complete only the first portion of the pre-training evaluation form, which asks for basic background information about the user.

Burden Estimates
Data collection activity | Estimated number of respondents | Responses per respondent | Total responses | Average hours per response | Total hour burden
In-person interviews | 120 | 1 | 120 | 1 | 120
Social network survey | 120 | 1 | 120 | .17 | 20.4
Focus groups | 88 | 1 | 88 | 1.5 | 132
Subtotal | 208 | — | 328 | — | 272.4
In-person Training Evaluative Materials:
Pre-training evaluation form | 120 | 1 | 120 | .17 | 20.4
Post-training evaluation form | 120 | 1 | 120 | .17 | 20.4
Customer satisfaction survey | 120 | 1 | 120 | .17 | 20.4
Subtotal | 120 | — | 360 | — | 61.2
Web-based Training Evaluative Materials:
Pre-training evaluation form | 2,706 | 1 | 2,706 | .17 | 460
Post-training evaluation form | 2,706 | 1 | 2,706 | .17 | 460
Customer satisfaction survey | 2,706 | 1 | 2,706 | .17 | 460
Background form | 2,050 | 1 | 2,050 | .10 | 205
Subtotal | 4,756 | — | 10,168 | — | 1,585
Total | 5,084 | — | 10,856 | — | 1,918.6

Written comments and recommendations concerning the proposed information collection should be sent by January 24, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: December 15, 2010.
Elaine Parry,
Director, Office of Management, Technology and Operations.

[FR Doc. 2010-32228 Filed 12-22-10; 8:45 am]

BILLING CODE 4162-20-P